DEPARTMENT OF HOUSING AND URBAN DEVELOPMENT

[Docket No. FR-5100-FA-16]

Announcement of Funding Awards for the Public Housing Family Self-Sufficiency Program for Fiscal Year 2007

AGENCY: Office of Public and Indian Housing, HUD.

ACTION: Announcement of Funding Awards.

SUMMARY: Purpose of the Program. In accordance with Section 102(a)(4)(C) of the Department of Housing and Urban Development Reform Act of 1989, this announcement notifies the public of funding decisions made by the Department for funding under the FY 2007 Notice of Funding Availability (NOFA) for the Public Housing (PH) Family Self-Sufficiency Program funding for Fiscal Year 2007. This announcement contains the consolidated names and addresses of those award recipients selected for funding based on the rating and ranking of all applications and the allocation of funding available for each State.

FOR FURTHER INFORMATION CONTACT: For questions concerning the FY 2007 Public Housing Family Self-Sufficiency awards, contact the Office of Public and Indian Housing's Grant Management Center, Director, Iredia Hutchinson, Department of Housing and Urban Development, Washington, DC, telephone (202) 358-0273. For the hearing or speech impaired, these numbers may be accessed via TTY (text telephone) by calling the Federal Information Relay Service at 1 (800) 877-8339. (Other than the “800” TTY number, these telephone numbers are not toll-free.)

SUPPLEMENTARY INFORMATION: The authority for the $12,000,000 in one-year budget authority for ROSS PIH FSS program coordinators is found in the Departments of Veteran Affairs and Housing and Urban Development, and Independent Agencies Appropriations Act, FY2007 (Pub. L. 109). The allocation of housing assistance budget authority is pursuant to the provisions of 24 CFR part 791, subpart D, implementing section 213(d) of the Housing and Community Development Act of 1974, as amended.

This program is intended to promote the development of local strategies to coordinate the use of assistance with public and private resources to enable participating families to achieve economic independence and self-sufficiency. A Public and Indian Housing FSS Program Coordinator assures that program participants are linked to the supportive services they need to achieve self-sufficiency.

The Fiscal Year 2006 awards announced in this Notice were selected for funding in a competition announced in Federal Register NOFA published on March 13, 2007. In accordance with Section 102(a)(4)(C) of the Department of Housing and Urban Development Reform Act of 1989 (103 Stat. 1987, 42 U.S.C. 3545), the Department is publishing the names, addresses, and amounts of the 203 awards made under the Public Housing Family Self-Sufficiency competition.

Dated: February 7, 2008.
Paula O. Blunt,
General Deputy Assistant Secretary for Office of Public and Indian Housing.

Appendix A.—Fiscal Year 2007 Funding Awards for the PH Family Self Sufficiency Program
Organization | Address/city/state/zip code | Amount
Alexander City Housing Authority | 2110 County Road, Alexander City, AL 35010 | $36,548
Jefferson County Housing Authority | 3700 Industrial Parkway, Birmingham, AL 35217 | 52,471
Mobile Housing Board | 151 South Claiborne Street, Mobile, AL 36602 | 52,652
Prichard Housing Authority | 4559 St. Stephens Road, Eight Mile, AL 36613 | 46,090
The Housing Authority of the City of Huntsville | 200 Washington Street, Huntsville, AL 35804-0486 | 65,500
Tuscaloosa Housing Authority | P.O. Box 2281, Tuscaloosa, AL 35403-2281 | 38,686
Housing Authority of Lonoke County | P.O. Box 74, 617 North Greenlaw Street, Carlisle, AR 720204 | 33,990
Housing Authority of the City of North Little Rock | 2201 Division, North Little Rock, AR 72114 | 37,182
Housing Authority of the City of West Memphis | 2820 Haririson Street, West Memphis, AR 72301-6099 | 40,685
City of Phoenix Housing Department | 251 West Washington, 4th Floor, Phoenix, AZ 85003 | 65,500
City of Tucson | P.O. Box 27210, 310 North Commerce Park Loop, Tucson, AZ 85726-7210 | 26,787
Housing Authority of Maricopa County | 2024 North 7th Street, Phoenix, AZ 85006 | 46,103
Housing Authority of the City of Yuma | 420 South Madison Avenue, Yuma, AZ 85364 | 57,158
Housing Authority City of Fresno | P.O. Box 11985, 1331 Fulton Mall, Fresno, CA 93776-1985 | 65,500
Housing Authority County of Fresno | P.O. Box 11985, 1331 Fulton Mall, Fresno, CA 93776-1985 | 65,500
Housing Authority of the City of Madera | 205 North G Street, Madera, CA 93637 | 49,756
Housing Authority of the City of Oakland | 1619 Harrison Street, Oakland, CA 94612-3307 | 64,890
Housing Authority of the City of Oxnard | 435 South D Street, Oxnard, CA 93030 | 65,000
Housing Authority of the City of San Buenaventura | 995 Riverside Street, Ventura, CA 93001-1636 | 65,500
Housing Authority of the City of San Luis Obispo | 487 Leff Street, San Luis Obispo, CA 93401 | 49,986
Housing Authority of the City of Santa Barbara | 808 Laguna Street, Santa Babarba, CA 93101 | 65,000
Housing Authority of the County of Kern | 601 24th Street, Bakersfield, CA 93301 | 60,909
Housing Authority of the County of Marin | 4020 Civic Center Drive, San Rafael, CA 94903 | 65,000
Housing Authority of the County of San Bernardino | 715 East Brier Drive, San Bernardino, CA 92408-2841 | 65,500
Housing Authority of the County of San Joaquin | 448 South Center Street, Stockton, CA 95203 | 165,333
Housing Authority of the County of Santa Cruz | 2931 Mission Street, Santa Cruz, CA 95060 | 65,500
Housing Authority of the County of Stanislaus | 1701 Robertson Road, Modesto, CA 95351 | 65,000
San Diego Housing Commission | 1122 Broadway, Suite 300, San Diego, CA 92101 | 131,000
Adams County Housing Authority | 7190 Colorado Boulevard, Commerce City, CO 80022 | 65,000
Boulder Housing Partners aba Housing Authority Boulder CO | 4800 Broadway, Boulder, CO 80304 | 63,551
Fort Collins Housing Authority | 1715 West Mountain, Fort Collins, CO 80521 | 65,500
Housing Authority of the City & County of Denver | 777 Grant Street, Denver, CO 80203 | 222,600
The Housing Authority of the City of Loveland | 375 West 37th Street, Suite 200, Loveland, CO 80538 | 65,500
Housing Authority City of Stamford | 22 Clinton Avenue, Stamford, CT 6904 | 65,000
Housing Authority of the City of Meriden | 22 Church Street, Meriden, CT 6451 | 53,572
Housing Authority of the City of New Haven | P.O. Box 1912, 360 Orange Street, New Haven, CT 06509-1912 | 57,181
Housing Authority of the City of Norwalk | P.O. Box 508, 24½ Monroe Street, Norwalk, CT 06856-0508 | 65,500
Housing Authority of the Town of Greenwich | 249 Milbank Avenue, Greenwich, CT 6830 | 65,500
Hialeah Housing Authority | 75 East 6th Street, Hialeah, FL 33010 | 37,981
Housing Authority of Brevard County | 615 Kurek Court, Merritt Island, FL 32953 | 53,129
Housing Authority of Lakeland | 430 Hartsell Avenue, Lakekand, FL 33815 | 47,664
Housing Authority of the City of Fort Myers | 4224 Michigan Avenue, Fort Myers, FL 33916 | 54,993
Housing Authority of the City of Tampa | 1514 Union Street, Tampa, FL 33607 | 61,859
Jacksonville Housing Authority | 1300 Broad Street, Jacksonville, FL 32202 | 43,657
The Housing Authority of the City of Bradenton | 1309 6th Street West, Bradenton, FL 34205 | 45,450
The Housing Authority of the City of Daytona Beach | 211 North Ridgewood Avenue, Daytona Beach, FL 32114 | 41,200
West Palm Beach Housing Authority | 1715 Division Avenue, West Palm Beach, FL 33407 | 36,794
Carrollton Housing Authority | 1 Roop Street, Carrollton, GA 30117 | 55,892
Housing Authority of the City of Albany, GA | P.O. Box 485, 521 Pine Avenue, Albany, GA 31702 | 28,219
Macon Housing Authority | 2015 Felton Avenue, Macon, GA 31201 | 59,730
Northwest Georgia Housing Authority | 800 North Fifth Avenue, Rome, GA 30162 | 43,329
State of Hawaii | P.O. Box 17907, Honolulu, HI 96817 | 65,500
City of Des Moines, Municipal Housing Agency | 100 East Euclid, Suite 101, Des Moines, IA 50313-4534 | 29,978
Eastern Iowa Regional Housing Authority | 3999 Pennsylvania Avenue, Suite 200, Dubuque, IA 52002 | 61,083
Nampa Housing Authority | 211 19th Avenue, North Nampa, ID 83687 | 40,177
Chicago Housing Authority | 60 East Van Buren Street, Chicago, IL 60605 | 53,044
Housing Authority of Champaign County | 205 West Park Avenue, Champaign, IL 61820 | 34,491
Housing Authority of Henry County | 100 Fairview Junction, Kewanee, IL 61443 | 44,767
Housing Authority of the City of Rock Island | 227 21st Street, Rock Island, IL 61201 | 65,500
Peoria Housing Authority | 100 South Richard Pryor Place, Peoria, IL 61605 | 48,073
Rockford Housing Authority | 223 South Winnebago Street, Rockford, IL 61102 | 63,112
Springfield Housing Authority | 200 North Eleventh Street, Springfield, IL 62703 | 36,000
Housing Authority of Michigan City | 621 East Michigan Boulevard, Michigan, IN 46360 | 39,000
Housing Authority of the City of Fort Wayne, Indiana | P.O. Box 13489, 7315 Hanna Street, Fort Wayne, IN 46869-3489 | 42,600
Housing Authority of the City of Terre Haute | P.O. Box 3086, One Dreiser Square, Terre Haute, IN 47803-0086 | 59,905
Housing Authority of the County of Delaware, Indiana | 2401 South Haddix Avenue, Muncie, IN 47302-7547 | 49,764
Housing Authority, City of Elkhart | 1396 Benham Avenue, Elkhart, IN 46516 | 37,504
Indianapolis Housing Agency | 1919 North Meridian Street, Indianapolis, IN 46202 | 60,255
New Albany Housing Authority | P.O. Box 11, New Albany, IN 47150 | 114,000
Lawrence-Douglas County Housing Authority | 1600 Haskell Avenue, Lawrence, KS 66044 | 59,859
Salina Housing Authority | 469 South 5th Street, Salina, KS 67401 | 55,000
Housing Authority of Bowling Green | 247 Double Springs Road, Bowling Green, KY 42101 | 45,000
Housing Authority of Glasgow | P.O. Box 1745, 111 Bunche Avenue, Glasgow, KY 42142-1745 | 38,299
Louisville Metro Housing Authority | 420 South Eighth Street, Louisville, KY 40203 | 64,747
Housing Authority of New Orleans | 4100 Touro Street, New Orleans, LA 70122 | 65,000
Jefferson Parish Housing Authority | 1718 Betty Street, Marrero, LA 70072 | 43,260
Shreveport Housing Authority | 2500 Line Avenue, Shreveport, LA 71104 | 34,495
Framingham Housing Authority | 1 John J. Brady Drive, Framingham, MA 01702 | 65,000
Holyoke Housing Authority | 475 Maple Street, Suite One, Holyoke, MA 01040 | 45,003
Lynn Housing Authority & Neighborhood Development | 10 Church Street, Lynn, MA 01902 | 48,570
Somerville Housing Authority | 30 Memorial Road, Somerville, MA 02145 | 65,500
Springfield Housing Authority | 25 Saab Court, Springfield, MA 01104 | 60,000
Worcester Housing Authority | 40 Belmont Street, Worcester, MA 01506 | 65,500
Housing Authority of Baltimore City | 417 East Fayette Street, Baltimore, MD 21202 | 65,500
Housing Authority of St. Mary's County, Maryland | P.O. Box 653, 41650 Tudor Hall Road, Leonardtown, MD 20650 | 52,451
Housing Authority of the City of Frederick | 209 Madison Street, Frederick, MD 21701 | 50,000
Housing Authority of the City of Hagerstown | 35 West Baltimore Street, Hagerstown, MD 21740 | 95,961
Housing Authority of Washington County | P.O. Box 2944, 44 North Potomac Street, Hagerstown, MD 21740-2944 | 4,311
Housing Opportunities Commission | 10400 Detrick Avenue, Kensington, MD 20895 | 129,167
Housing Authority of the City of Brewer | 15 Colonial Circle, Suite 1, Brewer, ME 04412 | 48,349
Lewiston Housing Authority | 1 College Street, Lewiston, ME 04240 | 16,334
Portland Housing Authority | 14 Baxter Boulevard, Portland, ME 04101 | 17,531
Grand Rapids Housing Commission | 1420 Fuller Avenue, Southeast Grand Rapids, MI 49507 | 65,500
Muskegon Housing Commission | 1080 Terrace, Muskegon, MI 49442 | 42,884
Saginaw Housing Commission | P.O. Box 3225, 1803 Norman Street, Saginaw, MI 48605-3225 | 47,258
Housing & Redevelopment Authority of Virginia, MN | P.O. Box 1148, Pine Mill Court, Virginia, MN 55792-3097 | 52,900
Housing Authority of St. Louis Park | 5005 Minnetonka Boulevard, St. Louis Park, MN 55416-2216 | 20,000
Washington County Housing and Redevelopment Authority | 321 Broadway Avenue, St. Paul Park, MN 55071 | 26,766
Housing Authority of Kansas City, Missouri | 301 East Armour, Kansas, MO 64111 | 48,272
Housing Authority of the City of Columbia, MO | 201 Switzler Street, Columbia, MO 65203 | 47,950
Housing Authority of the City of St. Charles | 1041 Olive Street, St. Charles, MO 63301 | 39,631
St. Louis Housing Authority | 4100 Lindell Boulevard, St. Louis, MO 63108 | 65,500
Natchez Housing Authority | 2 Auburn Avenue, Natchez, MS 39120 | 59,877
The Housing Authority of the City of Meridian | 2425 E Street, Meridian, MS 39301 | 48,818
City of Concord Housing Department | P.O. Box 308, 283 Harold Goodman Circle, Concord, NC 28026-0308 | 44,447
City of Hickory Public Housing Authority | P.O. Box 2927, Hickory, NC 28603 | 45,824
Gastonia Housing Authority | P.O. Box 2398, 340 West Long Avenue, Gastonia, NC 28053-2398 | 48,601
Housing Authority of the City of Charlotte | 1301 South Boulevard, Charlotte, NC 28203 | 65,000
Housing Authority of the City of Greensboro | 450 North Church Street, Greensboro, NC 27401 | 58,903
Housing Authority of the City of Greenville, NC | 1103 Broad Street, Greenville, NC 27834 | 55,249
Housing Authority of the City of High Point | 500 East Russell Avenue, High Point, NC 27261 | 95,838
Housing Authority of the City of Kinston, North Carolina | 608 North Queen Street, Kinston, NC 28501 | 42,972
Housing Authority of the City of Winston-Salem | 500 West Fourth Street, Suite 300, Winston-Salem, NC 27101 | 53,030
Lexington Housing Authority | 1 Jamaica Drive, Lexington, NC 27292 | 53,127
Statesville Housing Authority | 110 West Allison Street, Statesville, NC 28677 | 94,872
The Housing Authority of the City of Durham | P.O. Box 1726, 330 East Main Street, Durham, NC 27701 | 65,000
Housing Authority of the City of Lincoln, Nebraska | 5700 R Street, Lincoln, NE 68505 | 47,455
Housing Authority of the City of Omaha | 540 South 27th Street, Omaha, NE 68106-1549 | 40,941
Kearney Housing Agency | 2715 Avenue I OFC, Kearney, NE 68847 | 46,755
Keene Housing Authority | 831 Court Street, Keene, NH 03431 | 46,901
Atlantic City Housing Authority | P.O. Box 1258, 227 North Vermont Avenue, 17th Floor, Atlantic City, NJ 08401 | 53,138
Housing Authority of the City of Camden | 2021 Watson Street, 2nd Floor, Camden, NJ 08105 | 45,763
Millville Housing Authority | P.O. Box 803, 309 Buck Street, Millville, NJ 08332 | 44,000
City of Albuquerque Housing Services | 1840 University Boulevard, Southeast, Albuquerque, NM 87106 | 65,500
Clovis Housing & Redevelopment Agency, Inc | P.O. 1240, 2101 West Grand Avenue, Clovis, NM 88101 | 41,200
Santa Fe Civic Housing Authority | 664 Alta Vista Street, Santa Fe, NM 87505 | 52,699
Santa Fe County Housing Authority | 52 Camino de Jacobo, Santa Fe, NM 87507-3546 | 51,785
Taos County Housing Authority | 525 Ranchitos Road, Unit 925, Taos, NM 87571 | 47,380
Truth or Consequences Housing Authority | 108 Cedar, Truth or Consequences, NM 87901 | 9,858
Housing Authority of the City of Las Vegas | 340 North 11 Street, Las Vegas, NV 89101 | 125,886
Housing Authority of the City of Reno | 1525 East 9th Street, Reno, NV 89512-3012 | 26,594
Housing Authority of the County of Clark, Nevada | 5390 East Flamingo Road, Las Vegas, NV 89122 | 50,470
Buffalo Municipal Housing Authority | 300 Perry Street, Buffalo, NY 14204 | 64,939
Cohoes Housing Authority | 100 Manor Sites, Cohoes, NY 12047 | 14,277
Geneva Housing Authority | P.O. Box 153, 41 Lewis Street, Geneva, NY 14456 | 61,263
Monticello Housing Authority | 76 Evergreen Drive, Monticello, NY 12701 | 35,500
Municipal Housing Authority of the City of Schenectady | 375 Broadway, Schenectady, NY 12305 | 52,346
New Rochelle Municipal Housing Authority | 50 Sickles Avenue, New Rochelle, NY 10801-3416 | 65,500
Troy Housing Authority | One Eddy's Lane, Troy, NY 12180 | 56,735
Akron Metropolitan Housing Authority | 100 West Cedar Street, Akron, OH 44307 | 120,398
Chillicothe Metropolitan Housing Authority | 178 West Fourth Street, Chillicothe, OH 45601 | 22,692
Lorain Metropolitan Housing Authority | 1600 Kansas Avenue, Lorain, OH 44052 | 43,260
Lucas Metropolitan Housing Authority | 435 Nebraska Avenue, Toledo, OH 43604 | 50,434
Morgan Metropolitan Housing Authority | 4580 North Street, Route 376 Northwest, McConnelsville, OH 43756 | 45,618
Springfield Metropolitan Housing Authority | 101 West High Street, Springfield, OH 45502 | 43,332
Trumbull Metropolitan Housing Authority | 4076 Youngstown Road, Southeast, Suite 101, Warren, OH 44484 | 45,830
Youngstown Metropolitan Housing Authority | 131 West Boardman Street, Youngstown, OH 44503 | 57,749
Housing Authority of the City of Lawton | 609 Southwest F Avenue, Lawton, OK 73501 | 32,467
Housing Authority of the City of Muskogee | 220 North 40th Street, Muskogee, OK 74401 | 40,000
Housing Authority of the City of Shawnee, OK | P.O. Box 3427, 601 West 7th Street, Shawnee, OK 74802-3427 | 94,666
Housing Authority of the City of Tulsa | P.O. Box 6369, 415 East Independence, Tulsa, OK 74106-5727 | 42,749
Housing Authority & Community Services Agency of Lane County | 177 Day Island Road, Eugene, OR 97401 | 65,500
Housing Authority and Urban Renewal Agency of Polk County | P.O. Box 467, 204 Southwest Walnut Avenue, Dallas, OR 97338 | 14,534
Housing Authority of Portland | 135 Southwest Ash, Portland, OR 97204 | 196,080
Housing Authority of the City of Salem | 360 Church Street, Southeast, Salem, OR 97301 | 65,500
Umatilla Reservation Housing Authority | 51 Umatilla Loop, Pendleton, OR 97801 | 65,000
Allegheny County Housing Authority | 625 Stanwix Street, 12 Floor, Pittsburgh, PA 15222 | 64,500
Altoona Housing Authority | 2700 Pleasant Valley Boulevard, Altoona, PA 16602 | 55,023
Housing Authority of Northumberland County | 50 Mahoning Street, Milton, PA 17847 | 50,635
Housing Authority of the City of Pittsburgh | 200 Ross Street, Pittsburgh, PA 15219 | 44,550
Housing Authority of the City of York | P.O. Box 1963, 31 South Broad Street, York, PA 17403 | 42,679
Philadelphia Housing Authority | 12 South 23rd Street, Philadelphia, PA 19103 | 65,500
Westmoreland County Housing Authority | 154 South Greengate Road, Greensburg, PA 15601-6392 | 39,908
Housing Authority of the City of Providence | 100 Broad Street, Providence, RI 02903 | 65,500
Housing Authority of the City of Columbia, South Carolina | 1917 Harden Street, Columbia, SC 29204 | 46,921
Housing Authority of the City of Spartanburg | 201 Caulder Street, Spartanburg, SC 29304 | 48,667
North Charleston Housing Authority | 2170 Ashley Phosphate Road, North Charleston, SC 29406 | 49,440
The Housing Authority of the City of Greenville, SC | 511 Augusta Street, Greenville, SC 29605 | 40,469
Jackson Housing Authority | 125 Preston Street, Jackson, TN 38301 | 88,794
Kingsport Housing & Redevelopment Authority | P.O. Box 44, Kingsport, TN 37662 | 56,512
Memphis Housing Authority | 700 Adams Avenue, Memphis, TN 38105 | 65,000
Metropolitan Development and Housing Agency | 701 South Sixth Street, Nashville, TN 37206 | 126,004
Oak Ridge Housing Authority | 10 Van Hicks Lane, Oak Ridge, TN 37830 | 42,506
Town of Crossville Housing Authority | 67 Irwin Avenue, Crossville, TN 38555 | 53,045
Beaumont Housing Authority | 1890 Laurel, Beaumont, TX 77701 | 28,598
Cameron County Housing Authority | 65 Castellano Circle, Brownsville, TX 78526 | 49,093
Housing Authority of the City of Austin | P.O. Box 6159, Austin, TX 78762-6159 | 100,102
Housing Authority of the City of Fort Worth | 1201 East 13th Street, Fort Worth, TX 76102 | 65,500
Housing Authority of The City of Mission | 1300 East 8th, Mission, TX 78596 | 35,000
Housing Authority of the City of San Antonio (SAHA) | 818 South Flores, San Antonio, TX 78204 | 272,286
Housing Authority of the City of Waco | P.O. Box 978, 4400 Cobbs Drive, Waco TX 76703-0978 | 49,729
Housing Authority of the County of Hidalgo | 1800 North Texas Boulevard, Weslaco, TX 78596 | 38,192
Houston Housing Authority | 2640 Fountainview Drive, Houston, TX 77257-2971 | 50,989
San Marcos Housing Authority | 1201 Thorpe Lane, San Marcos, TX 78666 | 38,501
The Housing Authority of the City of Dallas, Texas (DHA) | 3939 North Hampton Road, Dallas, TX 75212 | 53,200
Housing Authority of Salt Lake City | 1776 South West Temple, Salt Lake City, UT 84115 | 54,590
Housing Authority of the County of Salt Lake | 3595 South Main, Salt Lake City, UT 84115 | 54,590
Bristol Redevelopment and Housing Authority | 809 Edmond Street, Bristol, VA 24201 | 38,292
Chesapeake Redevelopment & Housing Authority | 1468 South Military Highway, Chesapeake, VA 23320 | 47,448
Danville Redevelopment & Housing Authority | 135 Jones Crossing, Danville, VA 24541 | 44,557
Fairfax Co. Redev. and Housing Authority | 3700 Pender Drive, Suite 300, Fairfax, VA 22030 | 65,500
Norfolk Redevelopment and Housing Authority | 201 Granby Street, Norfolk, VA 23510 | 131,000
Portsmouth Redevelopment & Housing Authority | 801 Water Street, 2nd Floor, Portsmouth, VA 23704 | 50,645
Richmond Redevelopment and Housing Authority | 901 Chamberlayne Parkway, Richmond, VA 23261-6887 | 65,500
Roanoke Redevelopment and Housing Authority | 2624 Salem Turnpike, Northwest, Roanoke, VA 24017 | 104,782
Waynesboro Redevelopment and Housing Authority | P.O. Box 1138, 1700 New Hope Road, Waynesboro, VA 22980 | 40,586
Housing Authority of the City of Bremerton | 110 Russell Road, Bremerton, WA 98312 | 44,549
Housing Authority of the City of Tacoma | 902 South L Street, Tacoma, WA 98405 | 54,600
Seattle Housing Authority | P.O. Box 19028, 120 Sixth Avenue North, Seattle WA 98109-1028 | 57,230
Housing Authority of the City of Milwaukee | P.O. Box 324, Milwaukee, WI 53201-0324 | 65,500
Charleston-Kanawha Housing Authority | 911 Michael Avenue, Charleston, WV 25312 | 43,255
Parkersburg Housing Authority | 1901 Cameron Avenue, Parkersburg, WV 26101 | 36,726
Wheeling Housing Authority | P.O. Box 2089, 11 Community Street, Wheeling, WV 26003 | 44,000

[FR Doc. E8-3634 Filed 2-25-08; 8:45 am]

BILLING CODE 4210-67-P